SECURITIES AND EXCHANGE COMMISSION

[Release No. 34-88118; File No. SR-NYSENAT-2019-31]

Self-Regulatory Organizations; NYSE National, Inc.; Notice of Withdrawal of a Proposed Rule Change To Establish Fees for the NYSE National Integrated Feed

February 4, 2020.

On December 4, 2019, NYSE National, Inc. (“NYSE National” or “Exchange”) filed with the Securities and Exchange Commission (“Commission”), pursuant to Section 19(b)(1) of the Securities Exchange Act of 1934 (“Act”),¹ and Rule 19b-4 thereunder,² a proposed rule change to establish fees for the NYSE National Integrated Feed. The proposed rule change was immediately effective upon filing with the Commission pursuant to Section 19(b)(3)(A) of the Act.³ The proposed rule change was published for comment in the Federal Register on December 26, 2019.⁴ The Commission received two comment letters on the proposal.⁵ On January 31, 2020, the Commission issued an order temporarily suspending the proposed rule change pursuant to Section 19(b)(3)(C) of the Act ⁶ and simultaneously instituting proceedings under Section 19(b)(2)(B) of the Act ⁷ to determine whether to approve or disapprove the proposed rule change.⁸ On February 3, 2020, the Exchange withdrew the proposed rule change (SR-NYSENAT-2019-31).

¹ 15 U.S.C. 78s(b)(1).

² 17 CFR 240.19b-4.

³ 15 U.S.C. 78s(b)(3)(A).

⁴ See Securities Exchange Act Release No. 87797 (December 18, 2019), 84 FR 71025.

⁵ See letters to Vanessa Countryman, Secretary, Commission, from Tyler Gellasch, Executive Director, The Healthy Markets Association, dated January 16, 2020; and Robert Toomey, Managing Director and Associate General Counsel, Securities Industry and Financial Markets Association, dated January 21, 2020.

⁶ 15 U.S.C. 78s(b)(3)(C).

⁷ 15 U.S.C. 78s(b)(2)(B).

⁸ See Securities Exchange Act Release No. 88109.

⁹ 17 CFR 200.30-3(a)(12).

For the Commission, by the Division of Trading and Markets, pursuant to delegated authority.⁹
J. Matthew DeLesDernier,
Assistant Secretary.

[FR Doc. 2020-02523 Filed 2-7-20; 8:45 am]

BILLING CODE 8011-01-P